DEPARTMENT OF ENERGY

Federal Energy Regulatory Commission

[Project No. 3409-032]

Boyne USA, Inc.; Notice of Application Accepted for Filing, Soliciting Motions To Intervene and Protests, Ready for Environmental Analysis and Soliciting Comments, Recommendations, Terms and Conditions, and Prescriptions

Take notice that the following hydroelectric application has been filed with the Commission and is available for public inspection.

a. Type of Application: Subsequent Minor License.

b. Project No.: 3409-032.

c. Date filed: January 31, 2020.

d. Applicant: Boyne USA, Inc. (Boyne USA).

e. Name of Project: Boyne River Hydroelectric Project.

f. Location: On the Boyne River in Boyne Valley Township, Charlevoix County, Michigan. The project does not occupy federal land.

g. Filed Pursuant to: Federal Power Act 16 U.S.C. 791(a)-825(r).

h. Applicant Contact: Tyler Prange, Area Manager, 1 Boyne Mountain Rd., Boyne Falls, MI 49713; (231) 549-6076; tyler.prange@boynemountain.com.

i. FERC Contact: Patrick Ely at patrick.ely@ferc.gov or (202) 502-8570.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper request. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3409-032.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on July 15, 2020, revising the regulations under 40 CFR parts 1500-1518 that federal agencies use to implement NEPA (see Update to the Regulations Implementing the Procedural Provisions of the National Environmental Policy Act, 85 FR 43304). The Final Rule became effective on and applies to any NEPA process begun after September 14, 2020. An agency may also apply the regulations to ongoing activities and environmental documents begun before September 14, 2020, which includes the proposed Boyne River Project. Commission staff intends to conduct its NEPA review in accordance with CEQ's new regulations.

l. The Boyne River Project consists of the following facilities: (1) An existing 610-foot-long by 30-foot-high (left) earth-fill dam embankment and a 180-foot-long by 18-foot-high (right) earth-fill dam embankment; (2) a 132-foot-long by 50 to 72-foot-wide by 12-foot-deep concrete lined headrace channel; (3) a 35-foot-long concrete fixed crest spillway that discharges to a transverse collection gallery, and a 77-foot-long by 5-foot-diameter concrete discharge pipe that carries flow from the collection gallery to a stilling basin; (4) a 20-foot-long by 8.3-foot-wide to 16-foot-wide by 4-foot-deep stilling basin; (5) 6-foot wide by 7-foot 9-inches high sluice gate spillway; (6) a 72-foot-long by 5-foot-diameter concrete pipe that carries the flow from the sluice gate spillway to the stilling basin; (7) a 74-foot-long steel penstock consisting of two 5-foot-diameter and one 7-foot-diameter sections; (8) a 75-foot-long by 18-inch-diameter steel pipes that make up the auxiliary spillway; (9) a 715-foot long by 100-foot-wide emergency overflow spillway area; and (10) a 24-foot-long by 24-foot-wide concrete powerhouse with a single 250-kilowatt propeller turbine. The project also consists of a 100-foot-long, 2400-volt underground transmission line connected to a pole-mounted transformer and a 2.34-mile-long, 7.2/12.5-kilovolt overhead transmission line from the pole-mounted transformer to the Boyne Mountain Resort side of the Consumers Energy utility primary metering cabinet. The last 1,300 feet +/− at the Boyne Mountain Resort end is also buried.

m. A copy of the application can be viewed on the Commission's website at http://www.ferc.gov using the “eLibrary” link. Enter the docket number excluding the last three digits in the docket number field to access the document. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. The license applicant must file no later than 60 days following the date of issuance of this notice: (1) A copy of the water quality certification; (2) a copy of the request for certification, including proof of the date on which the certifying agency received the request; or (3) evidence of waiver of water quality certification. Please note that the certification request must be sent to the certifying authority and to the Commission concurrently.

p. Procedural schedule: The application will be processed according to the following schedule. Revisions to the schedule will be made as appropriate.

Milestone | Target date
Deadline for Filing Protest, Motion to Intervene, Comments, Recommendations, and Agency Terms and Conditions/Prescriptions | January 2021.
Deadline for Filing Reply Comments | March 2021.

Dated: November 24, 2020.
Nathaniel J. Davis, Sr.,
Deputy Secretary.

[FR Doc. 2020-26448 Filed 11-30-20; 8:45 am]

BILLING CODE 6717-01-P